FEDERAL COMMUNICATIONS COMMISSION

47 CFR Chapter 1

[FCC 02-3]

Termination of Rulemaking Proceedings

AGENCY: Federal Communications Commission.

ACTION: Final rule; termination of rulemaking proceedings.

SUMMARY: The Federal Communications Commission has terminated the rulemaking proceedings as set forth in the Order adopted by the Commission on January 9, 2002, and released January 11, 2002. The Commission has determined that no further action by the Commission is required in the proceedings.

DATES: These docket proceedings are terminated effective January 11, 2002.

FOR FURTHER INFORMATION CONTACT: Patricia Rawlings, Consumer Information Bureau, (202) 418-0294

SUPPLEMENTARY INFORMATION: 1. We have reviewed the open rulemaking proceedings listed in the Appendix, and have determined that the proceedings should be terminated. The matters at issue in these rulemaking proceedings are either moot or stale due to the passage of time or other regulatory and industry changes. Therefore, no further action by the Commission is required in the proceedings listed in the attached Appendix, and they are hereby closed.

2. Accordingly, pursuant to sections 4(i) and 4(j) of the Communications Act, 47 U.S.C. 154(i) and (j), it is ordered that the rulemaking proceedings set forth in the Appendix are closed and terminated, effective on January 11, 2002.

Federal Communications Commission.
William F. Caton,
Deputy Secretary.

Appendix
Docket No. | Subject matter | Action | Cite
CC 84-490 | Amendment of the rules to permit registration of terminal equipment for connection to voiceband private line channels; petition for rule making filed by AT&T | NPRM | FCC 84-230
CC 90-629 | Order To Show Cause; Nevada Bell Tariff F.C.C. No. 1; Transmittal No. 113 | OSC | 6 FCC Rcd 48
CC 91-377 | U.S. Communications of Westchester Tocsia Informational Tariffs | OR | DA 91-1612
CC 92-275 | New Service Reporting Requirements Under Price Cap Regulation | NPRM | 8 FCC Rcd 2150
CC 94-139 | AT&T Communications F.C.C. Tariff No. 1, Transmittal No. 7322 | OR | DA 95-2407
CC 94-18 | Establishment of a Federal Advisory Committee To Assist the Common Carrier Bureau in the Development and Implementation of an Electronic Filing System | PN | 59 FR 11604
CS 94-42 | Amendment of the Commission's Rules To Include Decatur, Texas in the Dallas-Fort Worth, Texas, Television | NPRM | 59 FR 26615
CS 94-43 | Amendment of the Commission's Rules To Include Kenosha and Racine, Wisconsin, in the Milwaukee, Wisconsin, Television Market | NPRM | 59 FR 26617
CS 94-99 | Amendment of Section 76.51 of the Rules To Include Sanger, California in the Fresno-Visalia-Hanford-Clovis, California Television Market | NPRM | 59 FR 50538
CS 95-143 | Amendment of Section 76.51 of the Commission's Rules To Include Greensburg, Pennsylvania in the Pittsburgh, Pennsylvania Television Market | NPRM | 60 FR 46805
CS 96-119 | Amendment of Section of the Commission's Rules To Include Dubuque, Iowa in the Cedar Rapids-Waterloo, Iowa Television Market | NPRM | 61 FR 29336
CS 96-139 | Amendment of Section 76.51 of the Commission's Rules To Include Baytown, Galveston, Alvin, Rosenberg, Katy and Conroe, Texas in the Houston, Texas Television Market | NPRM | 61 FR 34408
ET 93-59 | Amendment of Section 2.106 of the Rules to Allocate Spectrum for Wind Profiler Radar Systems | NPRM | 58 FR 19644
ET 99-300 | Information Sought on Methods for Verifying Compliance With E911 Accuracy Standards | PN | DA 99-2130
ET 99-34 | In the Matter of An Industry Coordination Committee System for Broadcast Digital Television Service | NPRM | 64 FR 6296
GN 84-361 | Federal Communications Commission's List of Rules To Be Reviewed Pursuant to Section 610 of the Regulatory Flexibility Act During 1983-1984 | OR | 49 FR 27179
GN 85-75 | Federal Communications Commission's List of Rules To Be Reviewed Pursuant to Section 610 of the Regulatory Flexibility Act During 1985-1986 | FN | 50 FR 26593
GN 86-367 | In the Matter of Private Sector Preparation and Administration of Commission Commercial Radio Operator Examinations | NOI | 51 FR 36415
MM 89-77 | Transfers of Control of Certain Licensed Non-Stock Entities | NOI | 54 FR 15957
MM 91-214 | Station KROQ-FM | LT | 6 FCC Rcd 7262
MM 93-225 | Amendment of Part 73 of the Rules To Clarify the Definition and Measurement of Aural Modulation Limits in the Broadcast Services | NOI | 58 FR 44483
MM 93-226 | Revision of 47 CFR 73.208, Reference Points and Distance Computations | NPRM | 58 FR 49278
MM 93-232 | Amendment of Section 76.51 of the Rules To Include Concord, California, in the San Francisco-Oakland-San Jose, California, Television Market | NPRM | 58 FR 45312
MM 93-260 | Amendment of Section 76.51 of the Rules To Include Marion, Indiana, in the Indianapolis-Bloomington, Indiana, Television Market | NPRM | 58 FR 53696
MM 93-303 | Amendment of Section 76.51 of the Rules To Include Hazelton and Williamsport, Pennsylvania in the Wilkes-Barre-Scranton, Pennsylvania Television Market | NPRM | 58 FR 68844
PP 96-17 | Improving Commission Processes | NOI | 11 FCC Rcd 14006
PR 93-199 | Amendment of Part 90 Concerning the Commission's Finder's Preference Rules | NPRM | 58 FR 38722
Action: FN Further Notice of Proposed Rulemaking.
LT Letter.
NOI Notice of Inquiry.
NPRM Notice of Proposed Rulemaking.
OR Order.
OS Order to Show Cause.
PN Public Notice.

[FR Doc. 02-1860 Filed 1-24-02; 8:45 am]

BILLING CODE 6712-01-P